SMALL BUSINESS ADMINISTRATION

Reporting and Recordkeeping Requirements Under OMB Review

AGENCY: U.S. Small Business Administration.

ACTION: 30-Day notice.

SUMMARY: The Small Business Administration (SBA) is seeking approval from the Office of Management and Budget (OMB) for the information collection described below. In accordance with the Paperwork Reduction Act and OMB procedures, SBA is publishing this notice to allow all interested members of the public an additional 30 days to provide comments on the proposed collection of information.

DATES: Submit comments on or before September 18, 2025.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: Shay Meinzer, Lead Program Evaluator, shay.meinzer@sba.gov, (202) 539-1429 or Shauniece Carter, Interim Agency Clearance Officer, shauniece.carter@sba.gov, (202) 205-6536.

SUPPLEMENTARY INFORMATION: This Information Collection Request extends the SBA's generic clearance to conduct formative studies that inform evaluation, research, and evidence-building activities. Under this generic clearance, the SBA plans to engage in a variety of formative and exploratory data collections with SBA grantees, program and potential program providers and participants, researchers, practitioners, and other stakeholders to fulfill the following goals:

• maintain a rigorous and relevant evaluation and research agenda,

• inform the development of SBA's future evidence-building activities,

• inform the delivery of targeted assistance and workflows related to processes,

• inform the development and refinement of recordkeeping and communication systems,

• plan for the provision of programmatic or evidence-capacity-related training or technical assistance,

• obtain grantee or stakeholder input on the development or refinement of program logic models, evaluations, and performance measures, and

• test activities to strengthen programs in preparation for summative evaluations.

The SBA's formative studies will collect data using well-established methodologies, including but not limited to questionnaires and surveys, semi-structured small group discussions or focus groups, observation, interviews, cognitive interviews and user testing. To minimize the burden of information collections approved under this clearance, the SBA will collect information electronically and/or use online collaboration tools, as appropriate, ask for readily available information, and use short, easy-to-complete information collection instruments when possible.

Conducting formative evaluation, research, and evidence-building activities will help the SBA better understand emerging needs and issues, identify evidence gaps, and ensure that SBA leadership and program offices have current data and information to implement SBA programs and initiatives successfully. The data from formative studies will be used to improve internal decision-making and inform future studies but will not be highly systematic nor intended to be statistically representative. Findings from these formative studies will not be generalized to the broader population and are not intended to produce influential information that is expected to have a genuinely clear and substantial impact on major policy decisions. Information gathered may inform future evaluation, research, and evidence-building, which could inform future influential public policy decisions.

The primary purpose of data collected under this generic ICR is not for publication. However, because the formative data collection efforts are intended to inform SBA's decision-making related to evidence-building and programmatic activities, the findings may be incorporated into documents and presentations available to the public. Such documents may include design and method documents, process or journey maps, conceptual frameworks or logic models, background materials for technical workgroups, informational presentations, technical assistance plans, and evaluation or research reports. Shared findings will include a discussion of the limitations regarding generalizability and intended use, and when necessary, results will be labeled as formative or exploratory.

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0425.

Title: Generic Clearance for Formative Data Collections for Evaluation, Research, and Evidence-Building.

Description of Respondents: The populations to be studied include SBA grantees, program and potential program providers and participants, researchers, practitioners, and other stakeholder groups involved in SBA programs, experts in fields pertaining to SBA evaluation and research, or others involved in conducting SBA evaluation, research, or evidence-building projects.

SBA Form Number: None.

Estimated Number of Respondents: 5,040.

Estimated Annual Responses: 5,040.

Estimated Annual Hour Burden: 2,343.

Shauniece Carter,
Interim Agency Clearance Officer.

[FR Doc. 2025-15722 Filed 8-18-25; 8:45 am]

BILLING CODE 8026-09-P